DEPARTMENT OF HEALTH AND HUMAN SERVICES

Administration for Children and Families

[CFDA Number: 93.598]

Announcement of the Award of a Single-Source Program Expansion Supplement Grant to Heartland Human Care Services in Chicago, IL

AGENCY: Office of Refugee Resettlement, ACF, HHS.

ACTION: Announcement of the award of a single-source program expansion supplement to Heartland Human Care Services (HHCS) to support expanded services to foreign trafficking victims, potential trafficking victims, and certain family members.

SUMMARY: The Administration for Children and Families (ACF), Office of Refugee Resettlement (ORR) announces the award of a single-source program expansion supplement grant to Heartland Human Care Services in Chicago, Illinois, for a total of $144,822.

The supplemental funding will ensure that clients' essential needs, such as housing, transportation, communication, food, and medical care, will be met.

DATES: The period of support under these supplements is September 30, 2014 through September 29, 2015.

FOR FURTHER INFORMATION CONTACT: Maggie Wynne, Director, Division of Anti-Trafficking in Persons, Office of Refugee Resettlement, 901 D Street SW., Washington, DC 20024, Telephone (202) 401-4664. Email: maggie.wynne@acf.hhs.gov.

SUPPLEMENTARY INFORMATION: The National Human Trafficking Victim Assistance Program (NHTVAP) provides funding for comprehensive case management services to victims of trafficking and certain family members on a per capita basis. The NHTVAP grantees help clients gain access to housing, employability services, mental health screening and therapy, medical care, and some legal services. During FY 2015, a grantee, Heartland Human Care Services (HHCS), served more clients than it had planned for in its budget for the year. Without the additional funding, HHCS would have to make significant cuts in services to current clients and limit the enrollment of new clients. With the supplemental funding, HHCS will be able to ensure that all of the clients' essential needs will be met.

Statutory Authority: Trafficking Victims Protection Act of 2000 (TVPA), as amended, Section 107(b)(1)(B), 22 U.S.C. 7105(b)(1)(B), authorizes funding for benefits and services to foreign victims of severe forms of trafficking in persons in the United States, potential victims of trafficking seeking HHS Certification, and certain family members.

Christopher Beach,
Senior Grants Policy Specialist, Office of Administration.

[FR Doc. 2015-33296 Filed 1-6-16; 8:45 am]

BILLING CODE 4184-47-P